DEPARTMENT OF COMMERCE

National Oceanic and Atmospheric Administration

[RTID 0648-XF266]

South Atlantic Fishery Management Council—Public Meeting

AGENCY: National Marine Fisheries Service (NMFS), National Oceanic and Atmospheric Administration (NOAA), Commerce.

ACTION: Notice of meeting of the South Atlantic Fishery Management Council's Snapper Grouper Advisory Panel.

SUMMARY: The South Atlantic Fishery Management Council (Council) will hold a meeting of the Snapper Grouper Advisory Panel (AP) October 27-29, 2025 in Charleston, SC.

DATES: The Snapper Grouper AP will meet October 27, 2025, from 1 p.m. until 5 p.m.; October 28, 2025, from 8:30 a.m. until 5 p.m.; and October 29, 2025, 8:30 a.m. until 12 p.m.

ADDRESSES: Meeting address: Drury Plaza Hotel North Charleston, 2934 West Montague, North Charleston, SC 29418; Phone 843/938-1503.

FOR FURTHER INFORMATION CONTACT: Kim Iverson, Public Information Officer, SAFMC; phone 843/571-4366 or toll free 866/SAFMC-10; FAX 843/769-4520; email: kim.iverson@safmc.net.

SUPPLEMENTARY INFORMATION: Meeting information, including the agenda, overview, briefing book materials, and an online public comment form will be posted on the Council's website at: https://safmc.net/advisory-panel-meetings/ 2 weeks prior to the meeting. The meeting is open to the public and available via webinar as it occurs. The webinar registration link will be available from the Council's website. Public comment will also be taken during the meeting.

The agenda for the Snapper Grouper AP meeting includes discussions of developing amendments to the Fishery Management Plan (FMP) for the Snapper Grouper Fishery of the South Atlantic Region: Regulatory Amendment 37 (black sea bass), Amendment 44 (yellowtail snapper and mutton snapper), Amendment 61 (fishery management unit revision), and Abbreviated Framework 5 (blueline tilefish catch levels). The AP will provide input and recommendations these amendments for the Council's consideration. The AP will also discuss current regulatory language defining commercial trips and impacts to the retention and sale of daily trip limits, and potential commercial trip limit changes for blueline tilefish. The AP will receive a progress update on the Snapper Grouper Management Strategy Evaluation and provide feedback to continue its development. The AP will also receive updates on other ongoing Council projects and initiatives, elect a chair and vice chair, and address other items as needed.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: September 29, 2025.
Becky J. Curtis,
Acting Deputy Director, Office of Sustainable Fisheries, National Marine Fisheries Service.

[FR Doc. 2025-19364 Filed 10-1-25; 8:45 am]

BILLING CODE 3510-22-P